DEPARTMENT OF AGRICULTURE

National Agricultural Library

Notice of Intent To Seek Approval To Collect Information

AGENCY: National Agricultural Library, Agricultural Research Service, USDA.

ACTION: Notice and Request for comments.

SUMMARY: In accordance with the Paperwork Reduction Act of 1995 (Pub. L. 104-13) and Office of Management and Budget (OMB) regulations at 5 CFR part 1320 (60 FR 44978, August 29, 1995), this notice announces the National Agricultural Library's intent to request approval for a new information collection from the Food Safety Research Information Office to obtain research and funding activity in food safety.

DATES: Comments on this notice must be received by September 4, 2002 to be assured of consideration.

ADDRESSES: Address all comments concerning this notice to Yvette Alonso, Food Safety Research Information Office Coordinator, 10301 Baltimore Ave., Room 113; Beltsville, MD 20705; Fax: 301-504-6409. Submit electronic comments to yalonso@nal.usda.gov.

FOR FURTHER INFORMATION CONTACT: Yvette Alonso, 301-504-3774.

SUPPLEMENTARY INFORMATION: Title: Food Safety Research Activity.

OMB Number: Not yet assigned.

Expiration Date: N/A.

Type of Request: Approval for new data collection.

Abstract: The collection of food safety research activity using the Food Safety Research Activity form will provide Web site users with the ability to submit project information and funding opportunities to add to the food safety research searchable database. We will review the data for accuracy and validity before posting the information in the database. This form will provide the Food Safety Research Information Office (FSRIO) with an online resource to acquire data from organizations or researchers who conduct research, including foreign research organizations, private research companies, government, educational environments and researchers themselves. These organizations or researchers maybe unknown to the Food Safety Research Information Office. The Food Safety Research Activity form is a document comprised of 14 inquiry components where users submit research or funding activity. Information to be submitted includes, user contact information (name, organization, email), whether the activity being submitted is a funding opportunity or current research project, if the research activity is funded by government, educational institutions or private organizations and the name of this organization or agency and URL if available. The user enters information on the specific research activity, including the project/funding title, date of research, project number if available, location where research is conducted, funding amount, contact information for the project such as the researcher who works on the project, the type of funding (grant, appropriated funds, private), and a research abstract providing a description of the activity.

Estimate of Burden: Public reporting burden for this collection of information is estimated to average 15 minutes per response.

Respondents: Food safety research community, including food safety researchers in the private and public sector and research grant administrators or personnel.

Estimated Number of Respondents: 100 per year.

Estimated Total Annual Burden on Respondents: 25 hours.

Comments

Comments are invited on (a) whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: June 13, 2002.
Caird E. Rexroad,
Associate Deputy Administrator.

[FR Doc. 02-16418 Filed 6-28-02; 8:45 am]

BILLING CODE 3410-03-P